DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collections. The ICR describes the nature of the information collections and the expected burden. The Federal Register Notice with a 60-day comment period soliciting comments on the following collections of information was published on April 17, 2003 on page 19066.

DATES: Comments must be submitted on or before September 10, 2003. A comment to OMB is most effective if OMB receives it within 30 days of publication.

FOR FURTHER INFORMATION CONTACT: Judy Street on (202) 267-9895.

SUPPLEMENTARY INFORMATION:

Federal Aviation Administration (FAA)

Title: Aviation Research Grants Program.

Type of Request: Extension of a currently approved collection.

OMB Control Number: 2120-0559.

Form(s): FAA Forms 9550-1, 9550-2, 9550-3, 9550-5, SF-5, SF-269, SF-270, SF-272, SF-LLL.

Affected Public: A total of 100 Grant Applicants.

Abstract: The FAA Aviation Research and Development Grants Program establishes uniform policies and procedures for the award and administration of research grants to colleges, universities, not for profit organizations, and profit organizations for security research. This program implements OMB Circular A-110, Public Law 101-508 sections 9205 and 9208 and Public Law 101-604, section 107(d).

Estimated Annual Burden Hours: An estimated 1,400 hours annually.

Title: Laser Operations in the Navigable Airspace (Advisory Circular (AC), Outdoor Laser Operations)

Type of Request: Extension of a currently approved collection

OMB Control Number: 2120-0662.

Affected Public: A total of 20 operators of laser emissions.

Abstract: The FAA requires the information in the interest of aviation safety to protect aircraft operations from the potential hazardous effect of laser emissions. The information collected is reviewed for its impact on aviation in the vicinity of the laser activity. Upon completion of the review of the information, the FAA issues a letter of determination to the respondent in regard of their request.

Estimated Annual Burden Hours: An estimated 2,200 hours annually.

ADDRESS: Send comments to the Office of Information and Regulatory Affairs, Office of Management and Budget, 725 17th Street, NW., Washington, DC 20503, Attention FAA Desk Officer. Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 4, 2003.
Judith D. Street,
FAA Information Collection Clearance Officer, Standards and Information Division, APF-100.

[FR Doc. 03-20412 Filed 8-8-03; 8:45 am]

BILLING CODE 4910-13-M